DEPARTMENT OF TRANSPORTATION

Office of the Secretary

[Docket No. OST 98-3304]

Requirement That Foreign Air Carriers Amend Plans To Address the Needs of Families of Passengers Involved in Aircraft Accidents

AGENCY: Office of the Secretary, DOT.

ACTION: Notice.

SUMMARY: This is to advise foreign air carriers that the Wendell H. Ford Aviation Investment and Reform Act for the 21st Century (AIR-21) (Pub. L. 106-181; 114 Stat. 61; April 5, 2000) amends 49 U.S.C. 41313(c) to require, among other things, that foreign air carriers submit to the Department and the National Transportation Safety Board additional assurances for their respective plans to address the needs of families of passengers involved in aircraft accidents. The content and filing requirements for the update to the plans applicable to foreign air carriers are set forth in Title IV, section 403, of AIR-21.

The additional assurances required to be submitted are described in section 403(a)(1) of AIR-21. Under the section, foreign air carriers must submit their updated plans to the Department and the NTSB within 180 days of the statute's enactment. Since AIR-21 was signed into law on April 5, 2000, updated plans are due to be filed not later than Monday, October 2, 2000.

We note that the Department has exempted from the requirements of section 41313 those foreign carriers that currently hold, or may subsequently receive, Department authority to conduct operations in foreign air transportation using only small aircraft. (Order 98-1-31, issued February 3, 1998.) For purposes of the exemption, small aircraft are those designed to have a maximum passenger capacity of not more than 60 seats or a maximum payload capacity of not more than 18,000 pounds. Unless a foreign carrier falls within the above exemption, the requirements of section 41313 apply to all foreign carriers, including those holding only all-cargo authority.

Each foreign carrier, except those exempted, should submit its plan in its entirety, that is, the plan as it exists with the new assurances as set forth in AIR-21. We expect each affected foreign carrier to give a high priority to the timely preparation and submission of its updated plan and meet the 180-day deadline for submission of the plan required by AIR-21. We remind each foreign carrier that while it may, if it chooses, contract with an outside source to act as a point of contact and provide services covered in the submitted plan in the event of an accident, in such a situation full responsibility for complying with the provisions of the law remains with the foreign carrier. We would also like to take this opportunity to request, on behalf of the NTSB, that each foreign carrier provide the NTSB an updated 24-hour telephone number for its operations center for use in the event of an emergency, and that the number be updated with the NTSB in the future as necessary.

DATES: Updated plans are due to be filed not later than Monday, October 2, 2000.

ADDRESSES: Plans should be submitted to the Department and the NTSB at the following addresses:

Dockets—Docket OST 98-3304, U.S. Department of Transportation, 400 Seventh Street SW., Room PL 401, Washington, DC 20590;

Erik Grosof, Office of Family Affairs, National Transportation Safety Board, 490 L’Enfant Plaza East, SW., Washington, DC 20594.

FOR FURTHER INFORMATION CONTACT: Questions concerning the content of the plans may be addressed to Erik Grosof, Office of Family Affairs, NTSB, at (202) 314-6189. Questions concerning the applicability of the requirements of section 41313 to a particular foreign air carrier should be addressed to George Wellington, Chief, Foreign Air Carrier Licensing Division, Office of International Aviation, DOT, at (202) 366-2391.

Thank you for your cooperation on this important issue.

Issued in Washington, DC, on June 8, 2000.
Samuel Podberesky,
Assistant General Counsel for Aviation Enforcement and Proceedings.

[FR Doc. 00-15655 Filed 6-20-00; 8:45 am]

BILLING CODE 4910-62-P